DEPARTMENT OF ENERGY

Federal Energy Regulatory Commission

18 CFR Part 35

[Docket No. RM24-9-000]

Alliance for Tribal Clean Energy; Notice of Petition for Rulemaking and Intent To Hold Tribal Consultation Meetings

SUMMARY: Take notice that, on August 9, 2024, the Alliance for Tribal Clean Energy, pursuant to Rule 207(a)(4) of the Federal Energy Regulatory Commission's (Commission) Rules of Practice and Procedure, filed a petition requesting that the Commission conduct an expedited rulemaking to revise the pro forma Large Generator Interconnection Procedures (LGIP) to defer the time at which certain tribal energy developers must post commercial readiness deposits and exempt them from potential withdrawal penalties. The Commission intends to conduct Tribal consultation per the Commission's Policy Statement on Consultation with Indian Tribes in Commission Proceedings, Order No. 635. The Commission will issue a future notice with further details.

DATES: Comments due: 5 p.m. Eastern Time on November 4, 2024.

ADDRESSES: The Commission strongly encourages electronic submission of comments in lieu of paper using the “eFiling” link at https://www.ferc.gov. Persons unable to file electronically may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852.

In addition to publishing the full text of this document in the Federal Register, the Commission provides all interested persons an opportunity to view and/or print the contents of this document via the internet through the Commission's Home Page (https://www.ferc.gov) using the “eLibrary” link. Enter the docket number excluding the last three digits in the docket number field to access the document. For assistance, contact FERC at FERCOnlineSupport@ferc.gov or call toll-free, (886) 208-3676 or TYY, (202) 502-8659.

FOR FURTHER INFORMATION CONTACT:

Michael G. Henry (Technical Information), Office of Energy Policy and Innovation, 202-502-8583, Michael.Henry@ferc.gov

Lewis Taylor (Legal Information), Office of General Counsel, 202-502-8624, Lewis.Taylor@ferc.gov

Elizabeth Molloy (Tribal Liaison), Office of General Counsel, 202-502-8771, Elizabeth.Molloy@ferc.gov

SUPPLEMENTARY INFORMATION: Any person that wishes to comment in this proceeding must file comments in accordance with Rule 211 of the Commission's Rules of Practice and Procedure, 18 CFR 385.211. Comments will be considered by the Commission in determining the appropriate action to be taken. Comments must be filed on or before the comment date.

The Commission's Office of Public Participation (OPP) supports meaningful public engagement and participation in Commission proceedings. OPP can help members of the public, including landowners, environmental justice communities, tribal members and others, access publicly available information and navigate Commission processes. For public inquiries and assistance with making filings, comments, or requests for rehearing, the public is encouraged to contact OPP at (202) 502-6595 or OPP@ferc.gov.

Dated: September 3, 2024.
Debbie-Anne A. Reese,
Acting Secretary.

[FR Doc. 2024-20312 Filed 9-11-24; 8:45 am]

BILLING CODE 6717-01-P